Proclamation 10168 of March 31, 2021

National Donate Life Month, 2021

By the President of the United States of America

A Proclamation

April is National Donate Life Month, a time for all Americans to celebrate the generosity of those who have saved lives by becoming organ, eye, tissue, marrow, and blood donors—and to encourage more Americans to follow their example. We also honor the families and friends of donors who have supported their loved one's decision to donate, as well as the caring and committed professionals who serve the transplantation community. This month-long observance also encompasses National Pediatric Transplant Week from April 18-24, a week dedicated to ending the pediatric transplant waiting list.

Despite the extraordinary challenges of the COVID-19 pandemic, 2020 saw organ transplants from deceased donors set an annual record for the 10th consecutive year—a testament to Americans' generosity and selflessness even in times of unbearable loss. Thanks to the resilience of our organ donation and transplantation professionals and the caring nature of the American people, more than 39,000 life-saving or life-enhancing organ transplants were performed in the United States last year from both living and deceased donors.

While thousands of Americans receive the gift of life each year through organ transplantation, the number of people in need of life-saving organs remains staggeringly high. There are more than 107,000 people currently on the national transplant waiting list, and another person is added every nine minutes. Sadly, the waiting list currently contains more than 1,900 children under the age of 18 who are awaiting a life-saving organ transplant. While very small children most often must receive donations from other young children due to size constraints, older children and adults can often match. In many cases, that means generous American adults can contribute to our goal of ending the pediatric transplant waiting list.

Current statistics show that Americans belonging to minority groups make up nearly 60 percent of those waiting for an organ transplant. Although a transplant can be successful regardless of the race or ethnicity of the donor and recipient, there is a greater chance of longer-term survival for the recipient if the genetic background of the donor and recipient are closely matched. Americans from every community are needed to help make a life-saving difference.

Nearly 18,000 people are diagnosed each year with illnesses for which blood stem cell transplantation—requiring marrow or cord blood—is the best treatment option. Over 65 percent of these individuals require donors from outside their own family. Although some 30 million adults are currently registered as blood stem cell donors, many individuals still have difficulty finding a suitably matched donor, meaning that we need many more registrants to fill this life-saving need.

Every day, 17 people in America die while waiting for a transplant. Yet, all of us have the power to help: one donor can save up to eight lives through organ donation, and can improve another 75 lives through eye and tissue donation. If you have not signed up as an organ donor, we need your help to fill the gap between the availability of organs and people who need them. I encourage all Americans to give hope to those awaiting a match by visiting organdonor.gov for organ, eye, and tissue donation, and bloodstemcell.hrsa.gov for marrow donation.

NOW, THEREFORE, I, JOSEPH R. BIDEN JR., President of the United States of America, by the authority vested in me by the Constitution and the laws of the United States, do hereby proclaim April 2021 as National Donate Life Month. I call upon every person to share the gift of life and hope with those in need of a life-saving or life-enhancing transplant by becoming organ, eye, tissue, marrow, and blood donors.

IN WITNESS WHEREOF, I have hereunto set my hand this thirty-first day of March, in the year of our Lord two thousand twenty-one, and of the Independence of the United States of America the two hundred and forty-fifth.

[FR Doc. 2021-07168

Filed 4-5-21; 8:45 am]

Billing code 3295-F1-P